DEPARTMENT OF DEFENSE

Office of the Secretary

TRICARE; Notice of TRICARE Plan Program Changes for Calendar Year (CY) 2024

AGENCY: Office of the Secretary of Defense, Department of Defense (DoD).

ACTION: Notice; TRICARE plan program changes for CY 2024.

SUMMARY: This notice provides information regarding TRICARE Plan Program Changes for CY 2024.

DATES: TRICARE health plan information in this notice is valid for services during CY 2024 (January 1, 2024-December 31, 2024).

ADDRESSES: Defense Health Agency, TRICARE Health Plan Division, 7700 Arlington Boulevard, Suite 5101, Falls Church, Virginia 22042-5101.

FOR FURTHER INFORMATION CONTACT: Ms. Debra Fisher, phone: (703) 275-6224.

SUPPLEMENTARY INFORMATION: A final rule published in the Federal Register (FR) on February 15, 2019, (84 FR 4326-4333) that established the requirement for the Director, Defense Health Agency (DHA), to provide public notice to Military Health System (MHS) beneficiaries each calendar year in connection with the annual open season enrollment period with a summary of changes to the TRICARE program. The following changes or improvements to the TRICARE program benefits apply for CY 2024.

Announcement of Open Season

Open Season is an annual period when beneficiaries can enroll in or make changes to their healthcare, dental, and vision coverage for the next calendar year.

During the TRICARE Open Season that runs from November 13, 2023, through December 12, 2023, qualified MHS beneficiaries may enroll in or change their TRICARE Prime or TRICARE Select plan.

During the Federal Employee Dental and Vision Insurance Program (FEDVIP) Open Season that runs from November 13, 2023, through December 11, 2023, qualified MHS beneficiaries, including TRICARE for Life beneficiaries, may enroll in or make changes to their dental and vision plans. FEDVIP is operated by the U.S. Office of Personnel Management.

Any changes MHS beneficiaries make during Open Season will take effect on January 1, 2024. If a beneficiary remains eligible and does not make any changes during Open Season, then their coverage will stay the same for 2024. TRICARE enrollees can ensure they receive important health plan information by promptly listing any change in address and other information in the Defense Enrollment Eligibility Reporting System (DEERS).

Annual Announcements

The following TRICARE program features are subject to a year-to-year determination and are announced each year prior to the annual TRICARE Open Season.

Urgent Care Visits: There continues to be no limit to the number of urgent care visits a covered beneficiary enrolled in TRICARE Prime may receive without a referral for Plan Year 2024. They may receive urgent care from any TRICARE-authorized urgent care center (UCC), either network or non-network, without a referral. They may also receive urgent care from any TRICARE network provider. If the TRICARE Prime enrollee seeks care from a non-network TRICARE authorized provider (outside of a TRICARE-authorized UCC), the usual TRICARE Prime Point of Service (POS) deductible and cost-shares shall apply. Private Sector care for Active Duty Service Members is subject to different rules. Covered beneficiaries who want assistance on decisions to seek urgent care in the United States (U.S.), except those enrolled in the Uniformed Services Family Health Plan (USFHP), may call the MHS Nurse Advice Line (NAL) for health care guidance from a specially trained registered nurse. The NAL is available 24/7 to all non-USFHP TRICARE beneficiaries. Beneficiaries who live overseas can call the NAL for health care advice when traveling in the U.S. but must coordinate care with their Overseas Regional Call Center. For additional information, call the servicing TRICARE contractor or visit https://www.tricare.mil/ContactUs and click on “MHS Nurse Advice Line.”

Prime Service Area Changes: Prime Service Areas (PSAs) are geographic areas around military medical treatment facilities and Base Realignment and Closure sites. PSAs support the medical readiness of active duty members of the Uniformed Services by adding to the capability and capacity of military hospitals and clinics. There are no changes to the existing PSAs for CY 2024.

What's New

The following changes or improvements to the TRICARE program benefits apply to CY 2024 (although some changes were implemented in 2023):

Elimination of Cost-Sharing for Female Tubal Sterilization as Preventive Care: Effective January 1, 2023, TRICARE eliminated cost-sharing for female tubal sterilization as a preventive service when it is performed by in-network TRICARE-authorized providers.

Preconception and Prenatal Carrier Screening: TRICARE covers preconception and prenatal carrier screening tests for cystic fibrosis, spinal muscular atrophy, fragile X syndrome, Tay-Sachs Disease, hemoglobinopathies, and conditions linked with Ashkenazi Jewish descent for beneficiaries with a limit of one test per condition per lifetime.

Breastfeeding Supplies: Effective January 25, 2023, in keeping with industry norms of shipping packages of 100 versus the earlier-covered 90 breast milk bags, TRICARE began cost-sharing for 100 breast milk bags every thirty days following the birth event for breastfeeding TRICARE Prime and TRICARE Select enrollees.

USFHP: USFHP is an additional TRICARE Prime option available through networks of community-based, not-for-profit health care systems (designated providers) in six geographic areas of the U.S. Beneficiaries are encouraged to review the information at https://www.tricare.mil/Plans/Enroll/USFHP and other available resources to determine whether they are in a USFHP eligible ZIP Code.

TRICARE Prime enrollees who reside in a ZIP Code where a USFHP service area and a PSA served by a TRICARE regional contractor overlap may change between the two at any time. This will be considered a Primary Care Manager (PCM) change and can be changed by phone, online, or by mail. Beneficiaries who are not enrolled in TRICARE Prime but wish to enroll in USFHP can contact the USFHP in their area to make enrollment changes during Open Season or as a result of a Qualifying Life Event (QLE). A QLE is a certain change in the beneficiary's life, such as marriage, birth of a child, or retirement from active duty, which may mean different TRICARE health plan options are available. A QLE opens a 90-day period for beneficiaries to make eligible enrollment changes.

TRICARE Managed Care Support Contracts for East and West Regions Change: A set of new TRICARE Managed Care Support contracts that facilitate health care in the private sector will serve beneficiaries in the East and West regions. Under the new contracts, beneficiaries residing in Arkansas, Illinois, Louisiana, Oklahoma, Texas, and Wisconsin will shift from the East to the West region. Beneficiaries with questions about this transition can seek more information at https://newsroom.tricare.mil/News/TRICARE-News/Article/3254092/changes-to-tricare-expected-in-2024.

Reimbursement and Coverage of Services Provided by Freestanding End-Stage Renal Disease (ESRD) Facilities: Effective January 12, 2023, TRICARE now recognizes freestanding end-stage renal disease facilities as authorized institutional providers, with an accompanying reimbursement methodology.

Planned Changes

Low Back Pain Physical Therapy Demonstration Ends: This three-year demonstration operating in ten states ends on December 31, 2023. The demonstration addresses the ongoing issue of low back pain among TRICARE enrollees and was designed to test the impact of waiving cost-shares associated with the first three physical therapy visits for low back pain. Information can be found at https://www.tricare.mil/Plans/SpecialPrograms/LowBackPain.

Laboratory Developed Test Demonstration Extended: The Laboratory Developed Test (LDT) Demonstration to assess whether submitted LDTs without United States Food and Drug Administration approval or clearance otherwise meet TRICARE coverage criteria, i.e., proven safety and effectiveness for its intended use, was slated to terminate on July 18, 2023. However, DHA has opted to extend the LDT Demonstration through July 18, 2028, to allow the Agency additional time to determine how to address LDT coverage long-term and allow continued coverage of these tests for TRICARE beneficiaries in the interim.

Coronavirus Disease (COVID-19) Response Changes: The U.S. National Emergency responding to the COVID-19 pandemic, originally declared in March 2020, ended on April 10, 2023. The Secretary of Health and Human Services (HHS) then ended the corresponding Public Health Emergency (PHE) on May 11, 2023. DoD had implemented certain flexibility for the MHS for the pendency of the National Emergency and HHS PHE that were to sunset with the termination of such emergency statuses.

On termination of the National Emergency, DoD resumed requiring a three-day acute care hospital stay prior to admission to a skilled nursing facility and requiring TRICARE Prime enrollees seek referrals to acquire COVID-19 vaccines from non-network, authorized providers without incurring point-of-services charges; and discontinued coverage of National Institute of Allergy and Infectious Disease (NIAID)-sponsored clinical trials (note: eligible beneficiaries who enrolled in a covered trial on or before April 10, 2023 will continue to have their care covered through the end of the trial). DoD also discontinued coverage of the treatment use of investigational drugs under expanded access for all new episodes of treatment and eliminated the temporary waiver of certain interstate and international licensing requirements for providers practicing both in person and via telehealth.

On termination of the HHS PHE, DoD discontinued its temporary coverage of facilities registered with Medicare Hospitals Without Walls initiative. DoD also discontinued its waiver of cost-sharing for COVID-19 testing. Normal TRICARE copayments and cost-sharing apply to testing and related services after May 11, 2023.

Additionally, for DoD beneficiaries receiving telehealth from the Direct Care component via Facetime, Google Duo/Meet, Microsoft Skype or other similar platforms, their telehealth services have moved to an approved DHA Platform. For DoD beneficiaries receiving Private Sector telehealth, any platform used by their provider must be HIPAA-compliant.

Appendix A

Certain TRICARE enrollee out-of-pocket costs (enrollment fees, premiums, catastrophic caps, deductibles, and copayments) are adjusted annually by Federal law and regulations based on the annual Cost of Living Adjustment (COLA) applied to Uniformed Service member retired pay. A difference in copayments remains between those who joined a Uniformed Service before January 1, 2018, (Group A), and those who joined on or after that date (Group B).

The retiree COLA is typically announced after the Federal fiscal year begins in October. Beneficiary out-of-pocket expenses impacted by the 2024 COLA will be posted to the tricare.mil/changes web page before the start of TRICARE Open Season, November 13, 2023.

Pharmacy Out-of-Pocket Expenses for CY 2024

TRICARE Pharmacy copayments will increase on January 1, 2024:

Pharmacy Copayments for Calendar Year 2024 *
Year | Retail network generic formulary 30-day supply | Retail network brand-name formulary 30-day supply | Retail network non-formulary 30-day supply | Mail order generic formulary 90-day supply | Mail order brand-name formulary 90-day supply | Mail order non-formulary 90-day supply
2024 | $16 | $43 | ** $76 | $13 | $38 | $76
* Active Duty Service Members enjoy a $0 copay for covered drugs at any pharmacy.
** For all beneficiaries except Active Duty Service Members, select brand-name maintenance medications (taken for long-term conditions) may only be filled twice at retail and then must be filled through home delivery or military pharmacy.

Premium Based Plans

The CY 2024 monthly premiums for TRICARE Reserve Select, TRICARE Retired Reserve, and TRICARE Young Adult and the quarterly premiums for Continued Health Care Benefit Program will be posted to the tricare.mil/changes web page once announced.

Dated: October 11, 2023.
Natalie M. Ragland,
Alternate OSD Federal Register Liaison Officer, Department of Defense.

[FR Doc. 2023-22790 Filed 10-11-23; 4:15 pm]

BILLING CODE 6001-FR-P